DEPARTMENT OF JUSTICE

National Institute of Corrections

Solicitation for a Cooperative Agreement: Development of Materials Specific to Compassion Fatigue and Vicarious Trauma in Corrections

AGENCY: National Institute of Corrections, U.S. Department of Justice.

ACTION: Solicitation for a cooperative agreement.

SUMMARY: The National Institute of Corrections (NIC) is seeking applications from organizations, groups, or individuals to enter into a cooperative agreement with NIC for an 18-month period to develop a series of products to define, identify, and address compassion fatigue and vicarious trauma within the corrections profession. Corrections professionals are those individuals with responsibility for the care, custody, case management, treatment, supervision, and discharge of those awaiting adjudication or who are sentenced, incarcerated, or on some form of community supervision.

DATES: Applications must be received by 4 p.m. (EDT) on Friday, August 17, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front security desk, dial 7-3106, ext. 0 for pickup.

Faxed or emailed applications will not be accepted. Electronic applications can only be submitted via http://www.grants.gov.

FOR FURTHER INFORMATION CONTACT: A copy of this announcement and links to the required application forms can be downloaded from the NIC Web site at http://www.nicic.gov/cooperativeagreements.

All technical or programmatic questions concerning this announcement should be directed to Maureen Buell, Correctional Program Specialist, National Institute of Corrections, Community Services Division. Ms. Buell can be reached directly at 1-800-995-6423 ext. 40121 or by email at mbuell@bop.gov. In addition to the direct reply, all questions and responses will be posted on NIC's Web site at www.nicic.gov for public review (the names of those submitting questions will not be posted). The Web site will be updated regularly and postings will remain on the Web site until the closing date of this cooperative agreement solicitation. Only questions received by 12 p.m. (EDT) on July 25, 2012 will be posted on the NIC Web site.

SUPPLEMENTARY INFORMATION: Overview: The materials developed through this cooperative agreement are intended for a broad audience of corrections professionals and related stakeholders working in pretrial, jail, prison, and community corrections (probation and parole) organizations. Awardees should develop the materials based on current research, knowledge, best practice, and specific information related to the experiences of corrections professionals. NIC will use the materials to define, identify, acknowledge, and address vicarious trauma and compassion fatigue within the corrections profession. The deliverables will help advance and foster healthier correctional environments while positively influencing systems, staff, and justice-involved men and women.

Background: The National Institute of Corrections has been providing support to federal, state, and local criminal justice organizations nationally. In 1974, Congress established NIC both as a center for the dissemination of timely correctional knowledge and professional training and as a place to exchange and discuss advances in criminal justice practice. Vicarious trauma and compassion fatigue are topics that affect a broad swath of corrections professionals, just as they affect the general public, yet they are rarely discussed openly or made part of corrections training events and curricula.

Daily interactions with justice-involved men and women can adversely affect corrections professionals, regardless of their role. Often the impact is cumulative, and certain emotions can become normalized over time, significantly influencing professional and personal lives. Staff may bring personal experiences and challenges with them to work during the course of their employment, which can contribute to negative attitudes, behaviors, and actions. Corrections work is challenging and encompasses an inordinate amount of responsibility: To maintain safe and secure institutions, manage and provide oversight to those under community supervision, positively contribute to safer communities, and meet the expectations of the courts and other criminal justice authorities. These are enormous challenges for a profession that the public does not understand well and generally undervalues.

Corrections professionals face challenges in the workplace that test even the most well-trained individuals, working with populations who have caused harm to others after being exposed to some of the most extreme dysfunctions of life. For years, staff have used the term “burnout” to describe the toll the work often takes on individuals, but the formidable challenges that corrections professionals are subject to often result in much more than “burnout.” The constant exposure to the realities of the corrections profession, whether in an institutional or community-based setting, often become “normalized,” with the potential to evolve into excessive absenteeism; health issues; unprofessional behavior in the work place; stressful interactions with family, friends, and colleagues; withdrawal; and other actions that are normally out of character for the individual.

The fields of law enforcement, social work, mental health, medicine, and the judiciary are examples of professions where individuals are exposed to vicarious trauma and compassion fatigue through the nature of their work. These fields routinely incorporate information about this common occurrence as part of their ongoing training and supervision. The military as well has recognized the impact of vicarious trauma and compassion fatigue in their troops and is making inroads to address it. Even some criminal justice and corrections entities have recognized this as an issue and have begun to incorporate it into training. However, the field should not view vicarious trauma and compassion fatigue as an anomaly, rather they are common occurrences in professions that deal directly with people in challenging circumstances, and they have a significant impact on how staff carry out their professional roles and balance work with life.

Statement of Work: The objective of this cooperative agreement is to develop materials that NIC will use to identify and discuss the implications of vicarious trauma and compassion fatigue on the corrections workforce and within an organization's culture. Activities and products from this cooperative agreement will include a literature search with an annotated bibliography of materials, convening and facilitating a work session comprised of researchers and practitioners to organize and synthesize the available research and knowledge on this topic, work toward the development of a white paper, content for an NIC Web page, and the development of learning objectives and content for an NIC webinar series. Resulting products will be in the public domain and available through the National Institute of Corrections Web site and Information Center.

Tasks to be performed through this cooperative agreement include: (1) Conducting a literature search, creating an annotated bibliography, and organizing the material addressing vicarious trauma and compassion fatigue across the corrections continuum (jails, prisons, community corrections), and other relevant disciplines. (2) convening a working session at an approved federal training location for up to 10 participants, including researchers and corrections practitioners; designing the working agenda; providing facilitation; and using content from the session to inform project deliverables. (3) working with NIC, project staff, and designated experts to draft a white paper on vicarious trauma and compassion fatigue in corrections; distributing the paper for peer review; revising the draft; and publishing the final document. (4) developing and gathering existing information and materials for a series of webinars for a broad correctional audience. (5) working with the NIC Information Center to discuss Web page appearance and development and with the NIC writer/editor to finalize written content on the site. (6) creating a final report that summarizes the project and recommendations for followup work on this topic. This project will be completed in conjunction with the NIC Community Services Division and the awardee will work closely with NIC staff on all aspects of the project. The awardee will participate in an initial meeting with designated NIC staff for a project overview and preliminary planning prior to September 15, 2012. Additionally, the awardee will meet routinely with NIC staff to discuss the activities noted in the project timeline submitted during the course of the cooperative agreement. Meetings will be held no less than quarterly and may be conducted via webinar with at least one onsite as agreed upon by NIC and the awardee.

Required Expertise: The successful applicant will at a minimum understand the distinction between burnout, vicarious trauma, and compassion fatigue, its impact and prevalence not only in the general public but in corrections; have broad experience and in-depth knowledge of the roles and tasks encountered by correctional professionals, whether working in an institutional environment or community-based setting (i.e., balancing of various roles, multi-tasking); have knowledge about the effect that critical incidents can have on staff; be familiar with relevant research, including the Adverse Childhood Experiences study and related resources; have expertise in meeting facilitation; have knowledge of evidence-based practices and its application to corrections.

Document Requirements: The length of the document should be determined by content. Brevity and clarity are encouraged. Documents and other products developed under this award must follow these guidelines. Prior to the preparation of the final draft of any document or other products, the awardee must consult with NIC's writer/editor concerning the acceptable formats for document submissions. The awardee must follow the guidelines listed herein as well as follow (1) the Guidelines for Preparing and Submitting Manuscripts for Publication as found in the “General Guidelines for Cooperative Agreements,” which can be found on our Web site at www.nicic.gov/cooperativeagreements and (2) NIC recommendations for producing products using plain language, which can be found at www.nicic.gov/plainlanguage.

All final documents and other materials submitted under this project may be posted on the NIC Web site and must meet the federal government's requirement for accessibility (e.g., 508 PDFs or HTML files). The awardee must provide descriptive text interpreting all graphics, photos, graphs, and/or multimedia that will be included with or distributed alongside the materials and must provide transcripts for all applicable audio/visual works.

Application Requirements: An application package must include OMB Standard Form 424, Application for Federal Assistance; a cover letter that identifies the audit agency responsible for the applicant's financial accounts as well as the audit period or fiscal year under which the applicant operates (e.g. July 1 through June 30); an outline of projected costs with the budget and strategy narratives described in the announcement. The following additional forms must also be included: OMB Standard Form 424A, Budget Information—Non-Construction Programs; OMB Standard Form 424B, Assurances—Non-Construction Programs (both available at www.grants.gov); DOJ/FBOP/NIC Certification Regarding Lobbying, Debarment, Suspension and Other Responsibility Matters; and the Drug-Free Workplace Requirements (available at http://www.nicic.gov/Downloads/General/certif-frm.pdf.

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via www.grants.gov.

Place the following at the top of the abstract: Project title; Applicant name (Legal name of applicant organization); Mailing address; Contact phone numbers (voice, fax); Email address; Web site address, if applicable.

The narrative portion of the application should include, at a minimum: A statement indicating the applicant's understanding of the project's purpose and objectives. The applicant should state this in language other than that used in the solicitation.

Project Design and Implementation: This section should describe the design and implementation of the project and how the awardee aims to address key design and implementation issues and challenges.

Project Management: Chart of measurable project milestones and timelines for the completion of each milestone.

Capabilities and Competencies: This section should describe the qualifications of the applicant organization, any partner organizations to do the work proposed, and the expertise of key staff to be involved in the project. Attach resumes that document relevant knowledge, skills, and abilities needed for each staff member assigned to complete the project. If the applicant organization has completed similar projects in the past, please include the URL/Web site or ISBN number for accessing a copy of the referenced work.

Budget: The budget should detail all costs for the project, show consideration for all contingencies for the project, note a commitment to work within the proposed budget, and demonstrate the ability to provide deliverables according to schedule.

Authority: Pub. L. 93-415.

Funds Available: NIC is seeking the applicant's best ideas regarding accomplishment of the scope of work and the related costs for achieving the objectives of this solicitation. Funds may be used only for the activities linked to the desired outcome of the project. The funding amount should not exceed $58,000 for a period of 18 months.

Eligibility of Applicants: An eligible applicant is any state or general unit of government, private agency, educational institution, organization, individual, or team with expertise in the described areas. Applicants must have demonstrated ability to implement a project of this size and scope.

Review Considerations: Applications will be reviewed by a team. Among the criteria used to evaluate the applications are indication of a clear understanding of the project requirements as stated in the solicitation; background, experience, and expertise of the proposed project staff, including any sub-contractors; effectiveness of an innovative approach to the project; a clear, concise description of all elements and tasks of the project, with sufficient and realistic timeframes necessary to complete the tasks; technical soundness of project design and methodology; financial and administrative integrity of the proposal, including adherence to federal financial guidelines and processes; a sufficiently detailed budget that shows consideration of all contingencies for this project and commitment to work within the proposed budget; and indication of availability to work with NIC staff.

Applications received under this announcement will be subject to a collaborative review process. The criteria for the evaluation of each application will be as follows:

Programmatic: 40 Points.

Are all of the tasks and activities adequately covered? Is there a clear description of how the applicant will accomplish each project activity, including major tasks; the strategies to be employed; required staffing; responsible parties, and other required resources? Are there any unique or exceptional approaches, techniques, or design aspects proposed that will enhance the project?

Project Management and Administration: 20 Points.

Does the applicant identify milestones and measures that demonstrate achievement of the specific tasks? Are the proposed management and staffing plans clear, realistic, and sufficient to complete the project? Is the applicant willing to meet with NIC as specified in the solicitation for this cooperative agreement?

Organizational and Project Staff Background: 30 Points.

Do the skills, knowledge, and expertise of the organization and the proposed project staff demonstrate a high level of competency to complete the tasks? Does the applicant/organization have the necessary experience and organizational capacity to meet all objectives of the project? If the applicant proposes consultants and/or partnerships, is there a reasonable justification for their inclusion in the project and a clear structure to ensure effective coordination?

Budget: 10 Points.

Is the proposed budget realistic, does it provide sufficient cost detail/narrative, and does it represent good value relative to the anticipated results? Does the application include a chart that aligns the budget with project activities along a timeline with, at minimum, quarterly benchmarks? In terms of program value, is the estimated cost reasonable in relation to the work to be performed and project products?

Note: NIC will NOT award a cooperative agreement to an applicant who does not have a Dun and Bradstreet Database Universal Number (DUNS) and is not registered in the Central Contractor Registry (CCR).

Applicants can obtain a DUNS number at no cost by calling the dedicated toll-free request line at 800-333-0505. Applicants who are sole proprietors should dial 866-705-5711 and select option #1.

Applicants may register in the CCR online at the CCR Web site: www.ccr.gov. Applicants can also review a CCR handbook and worksheet at this Web site.

Number of Awards: One.

NIC Opportunity Number: 12CS14. This number should appear as a reference line in the cover letter, where indicated on Standard Form 425, and outside of the envelope in which the application is sent.

Catalog of Federal Domestic Assistance Number: 16.601.

Executive Order 12372: This project is not subject to the provisions of Executive Order 12372.

Morris L. Thigpen,
Director, National Institute of Corrections.

[FR Doc. 2012-17215 Filed 7-13-12; 8:45 am]

BILLING CODE 4410-36-P